DEPARTMENT OF THE INTERIOR

Office of the Secretary

Central Utah Project Completion Act

AGENCY: Office of the Assistant Secretary for Water and Science, Department of the Interior.

ACTION: Notice of Availability of the Record of Decision documenting the Department of Interior's approval to proceed with the construction of the Diamond Fork System modifications, Utah County, Utah.

SUMMARY: On April 10, 2002, Tom Weimer, Deputy Assistant Secretary for Water and Science, Department of the Interior (Interior), signed the Record of Decision (ROD) which documents Interior's decision to modify a portion of the alignment of the Bonneville Unit Diamond Fork System of the Central Utah Project. The new alignment would eliminate the construction of a portion of the Upper Diamond Fork Tunnel and instead construct an alternative series of pipeline, tunnel, and shaft as presented in the Diamond Fork System 2002 Final Environmental Assessment for the Proposed Action Modifications and Finding of No Significant Impact (2002 Modifications EA/FONSI).

FOR FURTHER INFORMATION CONTACT: Additional information on matters related to this Federal Register notice can be obtained by contacting Mr. Reed Murray, Deputy Program Director, CUP Completion Act Office, Department of the Interior, 302 East 1860 South, Provo UT 84606-6154, (801) 379-1237, rmurray@uc.usbr.gov.

SUPPLEMENTARY INFORMATION: The ROD also approves the Central Utah Water Conservancy District (CUWCD) proceeding with the completion of the Diamond Fork System, in accordance with statutory and contractual obligations. The Proposed Action includes the following features: (1) Sixth Water Connection to Tanner Ridge Tunnel; (2) Tanner Ridge Tunnel; (3) Upper Diamond Fork Pipeline; (4) Upper Diamond Fork Flow Control Structure; (5) Upper Diamond Fork Shaft; (6) Aeration Chamber and Connection to Upper Diamond Fork Tunnel; and (7) Upper Diamond Fork Road Reconstruction.

The Proposed Action fulfills project needs to: (1) Maintain the statutorily mandated minimum flows in Sixth Water Creek and Diamond Fork Creek; (2) implement Interior's environmental commitments on the Diamond Fork System which includes but is not limited to removing high flows brought over from Strawberry Reservoir into the Sixth Water and Diamond Fork Creek drainages; (3) meet the CUWCD's M&I water contractual commitments to Salt Lake, Utah and Wasatch Counties, by conveying Bonneville Unit water to Utah Lake for exchange to Jordanelle Reservoir; and (4) provide the Utah Reclamation Mitigation and Conservation Commission (Mitigation Commission) the opportunity and flexibility for future restoration of aquatic and riparian habitat in Sixth Water and Diamond Fork creeks to protect water quality and threatened species in Diamond Fork Creek.

During preparation of the 2002 Modifications EA/FONSI, CUWCD consulted formally on listed species with the U.S. Fish and Wildlife Service (USFWS) under § 7 of the Endangered Species Act (16 U.S.C.A. sections 1531 to 1544, as amended). The Joint-Lead Agencies have included the USFWS recommendations as environmental commitments in the ROD.

Dated: May 1, 2002.
Ronald Johnston,
Program Director, Department of the Interior.

[FR Doc. 02-12089 Filed 5-14-02; 8:45 am]

BILLING CODE 4310-RK-P